DEPARTMENT OF LABOR

Employment and Training Administration

[TA-W-41,142]

SPX Valves and Controls, Lake City, PA; Notice of Negative Determination Regarding Application for Reconsideration

By application received on May 31, 2002, the company requested administrative reconsideration of the Department's negative determination regarding eligibility for workers and former workers of the subject firm to apply for Trade Adjustment Assistance (TAA). The denial notice applicable to workers of SPX Valves and Controls, Lake City, Pennsylvania was issued on May 13, 2002, and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (2) of the group eligibility requirements of section 222 of the Trade Act of 1974 was not met. Subject firm sales and production of valves increased from 2000 to 2001 and further increased from the January through March 2002 period over the corresponding 2001 period. The workers were engaged in the production of valves.

The request for reconsideration alleges that sales and production although increasing at the subject plant will begin to decline during the third or fourth quarter of 2002. The company further states that the company started importing valve parts (valve bonnets, bodies, actuators and positioners) from foreign sources during January 2002 and has purchase orders to import a meaningful amount of valves during the remainder of the year.

The company request for reconsideration corresponds to the TAA denial which was based on criterion (2) not being met, plant sales and production did not decline during the relevant period.

Imports of valve parts cannot be considered in meeting criterion (3) group eligibility requirements of Section 222 of the Trade Act of 1974. The reported importation of component parts beginning in January 2002 is not a relevant factor for workers producing valves. The imported product must be like or directly competitive with what the subject firm workers produce (valves).

The petitioner further states that sales and production will decline later this year and also appears to be stating that the company has ordered foreign produced valves which will be imported into the United States in the near future and continue to be imported through the remainder of 2002. If conditions change at the subject firm, the workers are encouraged to reapply for TAA eligibility.

Conclusion

After review of the application and investigative findings, I conclude that there has been no error or misinterpretation of the law or of the facts which would justify reconsideration of the Department of Labor's prior decision. Accordingly, the application is denied.

Signed at Washington, DC., this 18th day of June, 2002.
Edward A. Tomchick,
Director, Division of Trade Adjustment Assistance.

[FR Doc. 02-18419 Filed 7-19-02; 8:45 am]

BILLING CODE 4510-30-P